DEPARTMENT OF TRANSPORTATION

Federal Aviation Administration

14 CFR Part 21

[Docket No. FAA-2024-1656]

Draft Policy Statement Regarding Safety Continuum for Powered-Lift

AGENCY: Federal Aviation Administration (FAA), DOT.

ACTION: Notification of availability; request for comments.

SUMMARY: The FAA invites public comment on the agency's draft policy statement that establishes a safety continuum for the certification of powered-lift.

DATES: Comments must be received on or before August 12, 2024.

ADDRESSES: Send comments identified with “Safety Continuum for Powered-lift” and docket number FAA-2024-1656, using any of the following methods:

• Federal eRulemaking Portal: Go to www.regulations.gov and follow the instructions for submitting comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: The FAA will post all comments it receives without change to www.regulations.gov, including any personal information the commenter provides. DOT's complete Privacy Act Statement can be found in the Federal Register published on April 11, 2000 (65 FR 19477-19478), as well as at DocketsInfo.dot.gov.

FOR FURTHER INFORMATION CONTACT: James Blyn, Product Policy Management: Airplanes, GA, Emerging Aircraft, and Rotorcraft AIR-62B, Policy and Standards Division, Aircraft Certification Service, Federal Aviation Administration, 10101 Hillwood Parkway, Fort Worth, Texas 76177; telephone (817) 222-5762; email james.blyn@faa.gov.

SUPPLEMENTARY INFORMATION:

Background

Powered-lift are heavier-than-air aircraft capable of vertical takeoff, vertical landing, and low speed flight that depends principally on engine-driven lift devices or engine thrust for lift during these flight regimes and on nonrotating airfoil(s) for lift during horizontal flight. Powered-lift designs vary in size, capability, and performance. These aircraft are intended to perform a wide variety of operations such as urban air mobility, flight training, air ambulance, search and rescue, external-load/utility, firefighting, electronic newsgathering, air tours, and private use.

Recognizing that advancements in technology have the potential to enhance safety and recognizing the broad variations in the population of normal category aircraft, the FAA reviewed the safety continuum policies for both normal category airplanes and normal category rotorcraft and developed this proposed policy statement, which applies the FAA's safety continuum concept to the certification of powered-lift. This proposed policy would provide a balanced approach between the risk and safety benefits for certificating such aircraft. This policy establishes certification levels for powered-lift and establishes a graduated scale of compliance standards for the certification of these aircraft. These certification levels are based on aircraft maximum gross weight, maximum passenger seating configuration, and type of operation (general aviation vs. passenger transportation for compensation or hire) and are used to establish the safety objectives for system safety and aircraft performance.

Comments Invited

The FAA invites the public to submit comments on the draft policy statement as specified in the ADDRESSES section. Commenters should include the subject line “Safety Continuum for Powered-lift” and docket number FAA-2024-1656 on all comments submitted to the FAA. The most helpful comments will reference a specific portion of the draft document, explain the reason for any recommended change, and include supporting data. The FAA will also consider all comments received on or before the closing date before issuing the final policy statement. The FAA will also consider late filed comments if it is possible to do so without incurring expense or delay.

You may examine the draft policy statement on the agency's public website and in the docket as follows:

• At www.regulations.gov in Docket FAA-2024-1656.

• At www.faa.gov/aircraft/draft_docs/.

Issued in Washington, DC, on June 7, 2024.
Daniel J. Elgas,
Director, Policy and Standards Division, Aircraft Certification Service.

[FR Doc. 2024-12860 Filed 6-12-24; 8:45 am]

BILLING CODE 4910-13-P